Memorandum of August 5, 2016

Delegation of Authority Under Section 614(a)(1) of the Foreign Assistance Act of 1961

Memorandum for the Secretary of State

By the authority vested in me as President by the Constitution and the laws of the United States of America, including section 301 of title 3, United States Code, subject to fulfilling the requirement of section 614(a)(3) of the Foreign Assistance Act of 1961 (FAA), I hereby delegate to you the authority under section 614(a)(1) of the FAA to determine whether it is important to the security interests of the United States to furnish up to $28,970,312 of Fiscal Year 2015 Economic Support Fund resources without regard to any other provision of law within the purview of section 614(a)(1) of the FAA, in order to provide assistance for stabilization programs in Syria.

You are authorized and directed to publish this memorandum in the Federal Register.

THE WHITE HOUSE,

Washington, August 5, 2016

[FR Doc. 2016-19837

Filed 8-17-16; 8:45 am]

Billing code 4710-10-P